DEPARTMENT OF TRANSPORTATION

Federal Railroad Administration

Notice of Draft Finding of No Significant Impact for the Washington State Portion of the Pacific Northwest Rail Corridor Upgrades Tier-1 Environmental Assessment

AGENCY: Federal Railroad Administration (FRA), United States Department of Transportation (DOT).

ACTION: Notice of availability; Request for comments on draft Finding of No Significant Impact.

SUMMARY: In accordance with the National Environmental Policy Act of 1969 (NEPA) and the FRA's Procedures for Considering Environmental Impacts (FRA Environmental Procedures) (64 F.R. 28545 (May 26, 1999)), the FRA and the Washington State Department of Transportation (WSDOT) prepared a Tier-1 Environmental Assessment (Tier-1 EA) that evaluates the impacts of a corridor improvements program to the Washington State portion of the Pacific Northwest Rail Corridor (PNWRC Program). Based on the Tier-1 EA, the FRA has prepared a draft finding of no significant impact (draft FONSI) and is inviting the public to comment on the draft.

DATES: Written comments will be accepted on or before August 9, 2010. Any substantive comments received before the close of the comment period will be considered and addressed in the final FONSI. Copies of both the Tier-1 EA and draft FONSI are available on FRA's Web site at: http://www.fra.dot.gov/Pages/3006.shtml and WSDOT's Web site at http://www.wsdot.wa.gov/Freight/publications/PassengerRailReports.htm.

ADDRESSES: Please submit written comments on the draft FONSI to Elizabeth Phinney, Rail Environmental Manager, Washington State Department of Transportation, State Rail and Marine Office, 310 Maple Park Ave., SE., P.O. Box 47407, Olympia, WA 98504-7407. Comments may also be submitted in writing to Melissa DuMond, Environmental Protection Specialist, ATTN: PNWRC FONSI, Federal Railroad Administration, 1200 New Jersey Ave., SE., Stop 20, Washington, DC 20590.

FOR FURTHER INFORMATION CONTACT: For further information regarding the draft FONSI please contact Melissa DuMond, Environmental Protection Specialist, Federal Railroad Administration, 1200 New Jersey Ave., SE., Stop 20, Washington, DC 20590, telephone: (202) 493-6366.

SUPPLEMENTARY INFORMATION: The purpose of the PNWRC Program in Washington State is to improve intercity passenger rail service by reducing travel times, achieving greater schedule reliability, and creating capacity for additional trip frequencies in order to accommodate growing intercity travel demand. To achieve these goals WSDOT applied for federal funding through the High Speed Intercity Passenger Rail Program (HSIPR Program) administered by the FRA and funded by the American Recovery and Reinvestment Act (Recovery Act). WSDOT's application under the Recovery Act was split into three Service Blocks, and identified incremental service benefits including increased service levels, improved on-time performance and schedule reliability, and reduced travel times. The FRA intends to provide funding under the HSIPR Program for projects contained in two of the three service blocks.

In June 2009, the FRA released the HSIPR Program Guidance (Interim Guidance) that described the eligibility requirements and procedures for obtaining funding under the HSIPR Program. (74 FR 29901 (June 23, 2009)). The Interim Guidance split the funding opportunities into four separate tracks. The PNWRC improvements were submitted by Washington State for consideration for Track 2 funding. The Interim Guidance required Track 2 applicants to submit, with their application, a “corridor-wide `service' NEPA study, such as a programmatic or Tier I EIS.” (Interim Guidance Section 1.6.2). The Interim Guidance went on to define Service NEPA as an environmental document, either an Environmental Impact Statement or an EA, that “[a]ddresses actions at a broad level, such as a program concept for an entire corridor.” (Interim Guidance Section 2.2).

In order to comply with the requirements of the Interim Guidance, WSDOT prepared a Tier-1 or “service” NEPA document that included the analysis of two alternatives; the “No Build” and the “Corridor Service Expansion Alternative.” The No Build Alternative analyzes what would happen if there are no further improvements on the PNWRC. The Corridor Service Expansion Alternative analyzes the effect on the human and natural environments of the service improvements that involve 23 individual projects that build on one another and collectively meet the goals of the PNWRC Program to expand and improve service along the PNWRC. The Tier-1 EA was completed in September, 2009 and was made available for comment between October 2, 2009 and October 23, 2009 on the WSDOT Web site. Thirteen agencies submitted written comments. No individual written comments were received.

Based on the Tier-1 EA and contingent upon successful completion of mitigation measures detailed in the draft FONSI, FRA has determined that the improvements will not have a significant impact on the quality of the human or natural environment. Therefore, FRA has drafted a FONSI for the proposed program of improvements. This FONSI based on the Tier-1 EA has been prepared to comply with NEPA and the FRA's Environmental Procedures. FRA has concluded that the award of Federal funds to implement the program of improvements to the Washington State segment of the PNWRC that are described as Service Blocks 1, 2, and 3 in the EA, constitute a major Federal action within the meaning of Section 102(c) of NEPA (43 U.S.C. 4321). Prior to release of construction funding for individual projects, WSDOT will successfully complete applicable mitigation measures detailed in the draft FONSI and complete appropriate project-level NEPA evaluations, documentation, and required determinations for the individual project.

FRA Environmental Procedures require that a FONSI be made available to the public for not less than 30 days when the “nature of the proposed action is one without precedent.” Because this is the first Tier-1 EA and draft FONSI that FRA will issue, this notice invites the public to comment on the draft FONSI.

Issued in Washington, DC, on July 2, 2010.
Mark E. Yachmetz,
Associate Administrator for Railroad Policy and Development.

[FR Doc. 2010-16664 Filed 7-7-10; 8:45 am]

BILLING CODE 4910-06-P